DEPARTMENT OF THE INTERIOR

Bureau of Land Management

[OR-038-1220-AL; HAG 05-0176]

AGENCY: Bureau of Land Management (BLM), Vale District.

ACTION: Meeting notice for National Historic Oregon Trail Interpretive Center Advisory Board.

SUMMARY: The National Historic Oregon Trail Interpretive Center Advisory Board will meet September 22, 2005, 8 a.m. to Noon (PDT) at the National Historic Oregon Trail Interpretive Center, 42267 Highway 86, Baker City, Oregon.

Meeting topics may include capital improvement, education and outreach, a facility tour, and other topics as may come before the board. The meeting is open to the public, and the public comment opportunity is scheduled from 10 to 10:15 a.m.

FOR FURTHER INFORMATION CONTACT: Additional information concerning the National Historic Oregon Trail Interpretive Center Advisory Board may be obtained from Debbie Lyons, Public Affairs Officer, BLM Vale District Office, 100 Oregon Street, Vale, Oregon 97918, (541) 473-6218 or e-mail Debra_Lyons@or.blm.gov.

Dated: July 27, 2005.
David R. Henderson,
Vale District Manager.

[FR Doc. 05-15275 Filed 8-2-05; 8:45 am]

BILLING CODE 4310-33-P